CONSUMER PRODUCT SAFETY COMMISSION

[Docket No. CPSC-2024-0001]

Privacy Act of 1974; System of Records

AGENCY: Consumer Product Safety Commission.

ACTION: Notice of a modified system of records.

SUMMARY: Pursuant to the Privacy Act of 1974, the Consumer Product Safety Commission (CPSC) is proposing changes to one system of records notice (SORN). CPSC is proposing to amend CPSC-25—FOIAXpress System of Records (FOIAXpress). The amendment will, in addition to de minimis changes, expand the routine uses to allow the National Archives and Records Administration, Office of Government Information Services (OGIS), access to records contained in the system to the extent necessary to fulfill its responsibilities, to review administrative agency policies and procedures relating to the Freedom of Information Act (FOIA) and compliance with the FOIA, and to facilitate OGIS's offering of mediation services to resolve disputes between persons making FOIA requests and administrative agencies.

DATES: Comments must be received no later than February 16, 2024. The modified system of records described here will become effective February 16, 2024 unless CPSC receives comments contrary to the proposed amendments.

ADDRESSES: Comments, identified by Docket No. CPSC-2024-0001, can be submitted electronically or in writing:

Electronic Submissions: Submit electronic comments to the Federal eRulemaking Portal at: http://www.regulations.gov. Follow the instructions for submitting comments. CPSC does not accept comments submitted by electronic mail (email), except through www.regulations.gov. CPSC encourages you to submit electronic comments by using the Federal eRulemaking Portal, described above.

Written Submissions: Submit written submissions by Mail/Hand delivery/Courier (for paper, disk, or CD-ROM submissions) to the Office of the General Counsel, Division of the Secretariat, Consumer Product Safety Commission, 4330 East West Highway, Bethesda, MD 20814; telephone: 800-638-2772.

Instructions: All submissions received must include the agency name and docket number for this rulemaking. All comments received will be posted without change to: http://www.regulations.gov, including any personal information provided. Do not submit electronically any confidential business information, trade secret information, or other sensitive or protected information that you do not want to be available to the public. If you wish to provide such information, please submit it in writing.

Docket: For access to the docket to read background documents or comments received, go to http://www.regulations.gov and insert the docket number, CPSC-2024-0001, into the “Search” box, and follow the prompts.

FOR FURTHER INFORMATION CONTACT: Abioye Mosheim Oyewole, Assistant General Counsel, Office of the General Counsel, Division of Information Access, Consumer Product Safety Commission, 4330 East West Highway, Bethesda MD 20814, (301) 504-7454.

SUPPLEMENTARY INFORMATION: CPSC is proposing to amend the routine uses of CPSC-25, FOIAXpress, to: routinely share FOIA records with the Office of Government Information Services (OGIS); include medical and police reports as well as photographs as categories of records; add manufacturers, medical examiners, hospitals, and police and other law enforcement entities as records sources; and make conforming amendments (including updating contact information) and revise subheadings to follow the current SORN format.

CPSC sent a report to Congress and the Office of Management and Budget for their evaluation. For the public's convenience, CPSC's amended system of records is published in full below. The proposed changes to CPSC-25 are italicized.

Authority: 5 U.S.C. 552 and 5 U.S.C. 552a.

SYSTEM NAME AND NUMBER:

CPSC-25, FOIAXpress System of Records (FOIAXpress).

SECURITY CLASSIFICATION:

Not classified.

SYSTEM LOCATION:

Office of the General Counsel, Division of Information Access, Consumer Product Safety Commission, 4330 East West Highway, Bethesda, MD 20814.

SYSTEM MANAGER(S):

Chief FOIA Officer, Office of the General Counsel, Division of Information Access, Consumer Product Safety Commission, 4330 East West Highway, Bethesda, MD 20814.

PURPOSE(S) OF THE SYSTEM:

The CPSC uses this system to store, track, and manage requests for records under the Freedom of Information Act and the Privacy Act, and responses to those requests.

CATEGORIES OF INDIVIDUALS COVERED BY THE SYSTEM:

Individuals, classes of individuals, or representatives designated to act on behalf of individuals who request records from CPSC pursuant to the FOIA and the Privacy Act.

CATEGORIES OF RECORDS IN THE SYSTEM:

Correspondence and supporting documentation submitted to and created by the Commission to request records under the FOIA and the Privacy Act. Complaints submitted by consumers gathered in response to FOIA and Privacy Act requests. In-depth Investigation Reports created by the Commission during investigations regarding the safety of consumer products. Records contain individuals' personally identifiable information, including names, addresses, cities, states, telephone numbers, fax numbers, email addresses, medical examiner reports, and police reports, photographs of consumers and, where applicable, their residences or other personal items relevant to the consumers' complaints or investigations into their complaints.

RECORD SOURCE CATEGORIES:

Information in these records is furnished by: (1) the individual to whom the record pertains; (2) CPSC staff; (3) manufacturers responding to notices of proposed disclosure; (4) medical examiners and hospitals; and (5) police and other law enforcement officials.

ROUTINE USES OF RECORDS MAINTAINED IN THE SYSTEM, INCLUDING CATEGORIES OF USERS AND THE PURPOSES OF SUCH USES:

1. These records are used to record the requesting individual's address so a response can be forwarded.

2. These records are used to record the specific information that the individual is seeking so that the information we provide is responsive to the request.

3. Staff will search the records to determine which requests have been filled and which are still pending.

4. CPSC will use these records to prepare an annual report of FOIA activities at the end of each fiscal year and submit the report to the Attorney General, through the Department of Justice, Office of Information Policy.

5. Disclosure may be made to appropriate agencies, entities, and persons when: (1) CPSC suspects or has confirmed that the security or confidentiality of information in the system of records has been compromised; (2) CPSC has determined that as a result of the suspected or confirmed compromise, there is a risk of harm to the security or integrity of this system or other systems or programs (whether maintained by CPSC or another agency or entity) that rely upon the compromised information; and (3) the disclosure made to such agencies, entities, and persons is reasonably necessary to assist in connection with CPSC's efforts to respond to the suspected or confirmed compromise, and to prevent, minimize, or remedy such harm.

6. To the National Archives and Records Administration, Office of Government Information Services (OGIS), to the extent necessary to fulfill its responsibilities in 5 U.S.C. 552(h), to review administrative agency policies, procedures, and compliance with the FOIA, and to facilitate OGIS' offering of mediation services to resolve disputes between persons making FOIA requests and administrative agencies.

POLICIES AND PRACTICES FOR STORAGE OF RECORDS:

Records are created or ingested into the FOIAXpress software application and stored accordingly. Records received in paper format are ingested into FOIAXpress, then paper copies are destroyed.

POLICIES AND PRACTICES FOR RETRIEVAL OF RECORDS:

Records are retrieved using a requester's first and/or last name, or a randomly generated FOIA request number associated with each request.

POLICIES AND PRACTICES FOR RETENTION AND DISPOSAL OF RECORDS:

FOIA and Privacy Act request records are maintained electronically in FOIAXpress according to the National Archives and Records Administration's General Records Schedule 4.2. Records are destroyed at the end of their retention period.

ADMINISTRATIVE, TECHNICAL, AND PHYSICAL SAFEGUARDS:

FOIAXpress is protected by security protocols, which include controlled access, passwords, and other security features. Paper documents are secured in a locked office. The Commission limits access to FOIAXpress by putting users into predefined user roles with specific permissions for each role that dictate what abilities each user has on the system. Once a user is logged into the system, the software records when each visit occurred and logs every page and action performed. Only authorized staff have permission to access the system. Once a user has been assigned a role that allows access, then the individual can access the system, as needed.

RECORD ACCESS PROCEDURES:

Chief FOIA Officer, Office of the General Counsel, Division of Information Access, 4330 East West Highway, Bethesda, MD 20814, cpscfoiarequests@cpsc.gov.

CONTESTING RECORD PROCEDURES:

Chief FOIA Officer, Office of the General Counsel, Division of Information Access, 4330 East West Highway, Bethesda, MD 20814, cpscfoiarequests@cpsc.gov.

NOTIFICATION PROCEDURES:

Chief FOIA Officer, Office of the General Counsel, Division of Information Access, 4330 East West Highway, Bethesda, MD 20814, cpscfoiarequests@cpsc.gov.

EXEMPTIONS PROMULGATED FOR THE SYSTEM:

None.

HISTORY:

CPSC 25—FOIAXpress (last published at 77 FR 29596, FR Doc. 2012-12060 (May 18, 2012).

Alberta Mills,
Secretary, U.S. Consumer Product Safety Commission.

[FR Doc. 2024-00643 Filed 1-16-24; 8:45 am]

BILLING CODE 6355-01-P